DEPARTMENT OF HOMELAND SECURITY

[Docket No. CISA-2020-0020]

ICTAP Training Survey

AGENCY: Cybersecurity and Infrastructure Security Agency (CISA), Department of Homeland Security (DHS).

ACTION: 30-Day notice and request for comments; new information collection request, 1670-NEW.

SUMMARY: The Emergency Communications Division (ECD) within Cybersecurity and Infrastructure Security Agency (CISA) will submit the following Information Collection Request (ICR) to the Office of Management and Budget (OMB) for review and clearance in accordance with the Paperwork Reduction Act of 1995. CISA previously published a notice about this ICR, in the Federal Register on February 19, 2021 for a 60-day public comment period. In response, there were no comment received. The purpose of this notice is to allow additional 30-days for public comments.

DATES: The comment period for the information collection request published on February 19, 2021 at 86 FR 10332. Comments are encouraged and will be accepted until July 23, 2021.

ADDRESSES: Written comments and recommendations for the proposed information collection should be sent within 30 days of publication of this notice to www.reginfo.gov/public/do/PRAMain. Find this particular information collection by selecting “Currently under 30-day Review—Open for Public Comments” or by using the search function.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: For specific questions related to collection activities, please contact John Peterson COMU@cisa.dhs.gov at 202-503-5074.

SUPPLEMENTARY INFORMATION: The National Emergency Communications Plan (NECP) is the Nation's over-arching strategic plan to drive measurable improvements in emergency communications across all levels of government and disciplines. First released in 2008, the plan is periodically updated to reflect the ongoing evolution of emergency communications technologies and processes. In support of the NECP, the Interoperable Communications and Technical Assistance Program (ICTAP) within the Cybersecurity and Infrastructure Security Agency (CISA) Emergency Communications Division (ECD) provides a portfolio of no-cost communications technical assistance (TA) to support the implementation of the NECP, state's and territories' Statewide Communication Interoperability Plans (SCIPs), broadband planning, voice and digital network engineering, training, exercise support, and operational assessment focused on interoperable emergency communications at all levels of government.

The purpose of the ICTAP Training Survey is to obtain anonymous feedback regarding several of the training courses offered by the ICTAP. The feedback and experience given by survey respondents will assist the ICTAP in improving, revising, and updating the course materials for future students. The three courses which the ICTAP would like to obtain feedback are for:

• Communications Unit Leader (COML);

• Communications Unit Technician (COMT); and

• Information Technology Service Unit Leader (ITSL).

COML is designed for all state/territory, tribal, regional, and local emergency response professionals and for support personnel with a communications background. It is designed to familiarize these professionals with the role and responsibilities of a COML under the National Incident Management System (NIMS) Incident Command System (ICS) and to provide hands-on exercises that reinforce the lecture materials. CISA and FEMA Emergency Management Institute (EMI) offer this course jointly as “L0969, NIMS ICS All-Hazards Communications Unit Leader Course.” Under the NIMS ICS structure, a COML is the focal point within the Communications Unit. This course provides DHS-approved and NIMS-compliant instruction to ensure that every state/territory has trained personnel capable of coordinating on-scene emergency communications during a multi-jurisdictional response or planned event.

COML is designed for all state/territory, tribal, regional, and local emergency response professionals and for support personnel with a communications background. It is designed to familiarize these professionals with the role and responsibilities of a COML under the National Incident Management System (NIMS) Incident Command System (ICS) and to provide hands-on exercises that reinforce the lecture materials. CISA and FEMA Emergency Management Institute (EMI) offer this course jointly as “L0969, NIMS ICS All-Hazards Communications Unit Leader Course.” Under the NIMS ICS structure, a COML is the focal point within the Communications Unit. This course provides DHS-approved and NIMS-compliant instruction to ensure that every state/territory has trained personnel capable of coordinating on-scene emergency communications during a multi-jurisdictional response or planned event.

The COMT course provides introductory and refresher training for the NIMS ICS COMT position. It introduces public safety professionals and support staff to various communications concepts and technologies including interoperable communications solutions, LMR communications, satellite, telephone, data, and computer technologies used in incident response and planned events. It is designed for state/territory, tribal, urban, and local emergency response professionals and support personnel in all disciplines who have a technical communications background. Participants develop the essential core competencies required for performing the duties of the COMT in an all-hazards incident, including responsibilities while operating in a local, regional, or state-level All-Hazards Incident Management Team.

In 2018 and 2019, ICTAP introduced the ITSL course, and SAFECOM/National Counsel of Statewide Interoperability Coordinators (NCSWIC) have coordinated with FEMA National Integration Center (NIC) and other organizations focused on public safety communications to establish the best way to integrate the ITSL into the ICS. The ITSL is needed to provide information management, cybersecurity, and application management for the many critical incident/event related functions to include: Incident/Unified Command Post, Incident Communications Centers, and various tactical operations centers, joint information center (JIC), staging areas, and field locations. The ITSL course targets Federal, state/territory, tribal, urban, local, and emergency response professionals, and support personnel in all disciplines with a communications background and an aptitude for and extensive experience in information technology. Specifically, the training course provides an overview of the ITSL components including Communications/IT Help Desk or Unified Help Desk, IT Infrastructure Manager, Network Manager. It covers their roles and responsibilities and provides an in-depth overview with exercises for the ITSL's major functions, to include ensuring reliable and timely delivery of IT services to participating agencies and officials.

The ICTAP Training Survey will not collect any personal identifiable information (PII) from respondents (emergency communications stakeholders) of the survey. In collecting feedback regarding the ITSL, COML, and COMT courses, the survey will collect what state the respondent lives, where they took the course, did the course provide the information needed, should the course curriculum be updated, and any comments to improve the course material. The survey will encompass 10 questions regarding the former student's experience, anything that they liked, disliked, or something new that they would like to see incorporated into the refreshed class. It is estimated that it will take each participant 10 minutes to complete the training survey. For 300 respondents annually, the burden is 50 hours. To estimate the cost of this collection, CISA uses the mean hourly wage of “All Occupations” of $25.72. CISA then applies a load factor of 1.4597 to this average wage to obtain a fully loaded average hourly wage of $37.54. The total respondent cost burden for this collection is $1,877 (50 hours × $37.54).

Analysis

Agency: Cybersecurity and Infrastructure Security Agency (CISA), Department of Homeland Security (DHS).

Title of Collection: Interoperable Communications and Technical Assistance Program (ICTAP) Training Survey.

OMB Control Number: 1670-NEW.

Frequency: Annually.

Affected Public: State, Local, Tribal, and Territorial Governments.

Number of Annualized Respondents: 300.

Estimated Time per Respondent: 10 Minutes.

Total Annualized Burden Hours: 50 hours.

Total Annualized Respondent Opportunity Cost: $1,877.16.

Total Annualized Respondent Out-of-Pocket: $0.

Total Annualized Government Cost: $4,082.67.

Samuel Vazquez,
Acting Chief Information Officer, Department of Homeland Security, Cybersecurity and Infrastructure Security Agency.

[FR Doc. 2021-13107 Filed 6-22-21; 8:45 am]

BILLING CODE 9110-9P-P